DEPARTMENT OF ENERGY

Federal Energy Regulatory Commission

[Project No. 7118-007]

State of Maine Department of Marine Resources; Notice of Availability and Adoption of Environmental Assessment

June 11, 2002.

Summary: Pending before the Federal Energy Regulatory Commission (FERC or Commission) is a request for surrender of exemption and removal of dam for the Smelt Hill Dam and Hydroelectric Project No. 7118. In accordance with the Commission's procedures for complying with the National Environmental Policy Act (NEPA), and consistent with the regulations of the Council on Environmental Quality (CEQ) for implementing NEPA at 40 CFR 1506.3, the Commission has decided to adopt an environmental assessment (EA) produced by the U.S. Army Corps of Engineers (Corps), New England District in January 2001. The EA is titled: “Smelt Hill Dam Environmental Restoration Study—Falmouth, Maine.” The EA concludes that removal of the Smelt Hill Dam would not be a major Federal action significantly affecting the quality of the human environment. The FERC staff has independently reviewed the EA, and agrees with its analysis and conclusions. The staff therefore finds that the EA meets the standards for an adequate environmental analysis under NEPA, and can be adopted.

Availability: On September 10, 2001, the State of Maine Department of Marine Resources (MDMR) filed an application for surrender and removal of dam. MDMR's application included a copy of the Corps' EA. Copies of this filing are available for inspection at the Public Reference Room of the Commission's offices at 888 First Street, NE, Washington, DC 20426. The application and EA are also available in electronic format on the FERC's Web site at http://www.ferc.gov.

Supplementary information: On March 14, 2002, MDMR completed its purchase of the Smelt Hill Dam and Hydroelectric Project facilities from the previous exemptee, Central Maine Power Company (CMP). The facilities are located at the head-of-tide on the Presumpscot River in Falmouth, Maine. The hydroelectric facilities have not been in operation since October 1996, when they were damaged by a flood. CMP elected not to rehabilitate the facilities and sought a buyer. MDMR entered into a purchase agreement with CMP on September 4, 2001, with the express purpose of removing the Smelt Hill Dam in order to restore the aquatic ecosystem of the lower Presumpscot River. On January 16, 2002, the State of Maine Department of Environmental Protection (MDEP) approved the dam removal under the Maine Waterway Development and Conservation Act and the Clean Water Act. MDMR requested that the Commission accept surrender of the exemption and authorize removal of the Smelt Hill Dam. While the surrender of an exemption is an administrative matter before the FERC, removal of the dam is essentially the same proposed action that the Corps examined in its EA.

Removal of the dam and hydroelectric facilities would be done by the Corps as an Aquatic Ecosystem Restoration Project under Section 206 of the Water Resources Development Act of 1966. On October 26, 2000, the Corps held a public meeting in Falmouth, Maine to discuss the project. The Corps released its draft EA on November 2, 2000, with a public comment period ending on November 30, 2000. The Corps addressed comments in its final EA issued in January 2001. The final EA included the Corps' Finding of No Significant Impact dated January 22, 2001.

The EA evaluated three alternatives: partial dam removal, complete dam removal, and rehabilitation of the existing hydraulic fish lift at the dam. The EA recommended complete removal of the Smelt Hill Dam, with primary disposal of debris in upland areas on-site. Under this plan, anadromous and other fish would be able to migrate unimpeded past Presumpscot Falls. Seven miles of former reservoir would be restored to riffle and pool complexes, with habitat suitable for cold water fish spawning, and warm water fish populations would be reduced.

The FERC staff carefully reviewed the Corps' EA and conducted an independent assessment of MDMR's proposal to surrender its exemption and remove the Smelt Hill Dam. Based on this review and assessment, the FERC staff concludes that the EA adequately assesses the environmental impacts of the proposed action and can be adopted. The FERC staff further concludes that the information in the record is adequate, and no supplemental or additional environmental review is required to evaluate the application.

In its regulations implementing NEPA, the CEQ encourages agencies to reduce paperwork and duplication of efforts. One means of accomplishing these goals is adopting environmental documents prepared by other agencies, pursuant to 40 CFR 1500.4(n). Because the actions analyzed by the Corps are substantially the same as those being proposed by MDMR, the FERC may adopt the Corps EA without recirculating it, pursuant to 40 CFR 1506.3(b). The FERC staff agrees with the EA's findings that removing the dam would facilitate upstream migration of anadromous fish and improve riverine habitat. The FERC also agrees with the EA's finding that removal of the dam is not a major Federal action significantly affecting the quality of the human environment, and finds that no supplemental or additional environmental data or analyses are necessary to complete the staff's review of MDMR's proposal.

Magalie R. Salas,
Secretary.

[FR Doc. 02-15173 Filed 6-14-02; 8:45 am]

BILLING CODE 6717-01-P